DEPARTMENT OF LABOR

Employment and Training Administration

[TA-W-54,000]

Arkansas Catfish Growers, Hollandale, Mississippi; Notice of Termination of Investigation

Pursuant to section 221 of the Trade Act of 1974, as amended, an investigation was initiated on January 14, 2004 in response to a petition filed by the company on behalf of workers at Arkansas Catfish Growers, Hollandale, Mississippi.

The petitioner has requested that the petition be withdrawn. Consequently, further investigation in this case would serve no purpose, and the investigation has been terminated.

Signed at Washington, DC this 23rd day of January, 2004.
Elliott S. Kushner,
Certifying Officer, Division of Trade Adjustment Assistance.

[FR Doc. 04-3321 Filed 2-13-04; 8:45 am]

BILLING CODE 4510-30-P